DEPARTMENT OF THE INTERIOR

Fish and Wildlife Service

[FWS-R2-ES-2014-N220: FXES11130200000-156-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. Both the Act and the National Environmental Policy Act require that we invite public comment before issuing these permits.

DATES: To ensure consideration, written comments must be received on or before December 1, 2014.

ADDRESSES: Susan Jacobsen, Chief, Division of Classification and Restoration, by U.S. mail at Division of Classification and Recovery, U.S. Fish and Wildlife Service, P.O. Box 1306, Albuquerque, NM 87103; or by telephone at 505-248-6920. Please refer to the respective permit number for each application when submitting comments.

FOR FURTHER INFORMATION CONTACT: Susan Jacobsen, Chief, Division of Classification and Restoration, by U.S. mail at P.O. Box 1306, Albuquerque, NM 87103; or by telephone at 505-248-6665.

SUPPLEMENTARY INFORMATION:

Public Availability of Comments

The Act (16 U.S.C. 1531 et seq.) prohibits activities with endangered and threatened species unless a Federal permit allows such activities. Along with our implementing regulations in the Code of Federal Regulations (CFR) at 50 CFR part 17, the Act provides for permits, and requires that we invite public comment before issuing these permits. A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE—821356

Applicant: U.S. Geological Survey—Grand Canyon Monitoring and Research Center, Flagstaff, Arizona.

Applicant requests an amendment to a current permit for research and recovery purposes to collect from the wild and conduct laboratory research using bioelectrical impedance analysis of humpback chubs (Gila cypha) within Arizona.

Permit TE—006655

Applicant: Logan Simpson Design, Inc., Tempe, Arizona.

Applicant requests a renewal to a current permit for research and recovery purposes to conduct presence/absence surveys of the following species within Arizona:

• Black-footed ferret (Mustela nigripes).

• Gila topminnow (Poeciliopsis occidentalis).

• Northern aplomado falcon (Falco femoralis).

• Razorback sucker (Xyrauchen texanus).

• Southwestern willow flycatcher (Empidonax traillii extimus).

• Yuma clapper rail (Rallus longirostris yumanensis).

Permit TE—828640

Applicant: Harris Environmental Group, Tucson, Arizona.

Applicant requests a renewal to a current permit for research and recovery purposes to conduct presence/absence surveys for lesser long-nosed bat (Leptonycteris yerbabuenae), northern aplomado falcon (Falco femoralis), and southwestern willow flycatcher (Empidonax traillii extimus) within Arizona.

Permit TE—188015

Applicant: Santa Ana Pueblo, Santa Ana, New Mexico.

Applicant requests a renewal to a current permit for research and recovery purposes to conduct presence/absence surveys for Rio Grande silvery minnow (Hybognathus amarus) within New Mexico.

Permit TE—48437B

Applicant: Jann Jones, Pahwuska, Oklahoma.

Applicant requests a new permit for research and recovery purposes to conduct presence/absence surveys of American burying beetle (Nicrophorus americanus) within Oklahoma.

Permit TE—48572B

Applicant: Cienega Environmental, Inc., Albuquerque, New Mexico. Applicant requests a new permit for research and recovery purposes to conduct presence/absence surveys for southwestern willow flycatcher (Empidonax traillii extimus) and Jemez mountain salamander (Plethodon neomexicanus) within New Mexico.

Permit TE—08548B

Applicant: U.S. Geological Survey—Sonoran Desert Research Station, Tucson, Arizona.

Applicant requests an amendment to a current permit for research and recovery purposes to conduct presence/absence surveys of Sonoran tiger salamander (Ambystoma mavortium stebbinsi) within Arizona.

Permit TE—36653A

Applicant: Atkins Global, Austin Texas

Applicant requests a renewal to a current permit for research and recovery purposes to conduct presence/absence surveys of the following species within Texas:

• Barton Springs salamander (Eurycea sosorum).

• Bee Creek Cave harvestman (Texella reddelli).

• Black-capped vireo (Vireo atricapilla).

• Bone Cave harvestman (Texella reyesi).

• Braken Bat Cave meshweaver (Cicurina venii).

• Coffin Cave mold beetle (Batrisodes texanus).

• Cokendolpher Cave harvestman (Texella cokendolpheri).

• Comal Springs dryopid beetle (Stygoparnus comalensis).

• Comal Springs riffle beetle (Heterelmis comalensis).

• Fountain darter (Etheostoma fonticola).

• Golden-cheeked warbler (Dendroica chrysoparia).

• Government Canyon Bat Cave meshweaver (Cicurina vespera).

• Government Canyon Bat Cave spider (Neoleptoneta microps).

• Ground beetle (Unnamed) (Rhadine exilis).

• Ground beetle (Unnamed) (Rhadine infernalis).

• Helotes mold beetle (Batrisodes venyivi).

• Houston toad (Bufo houstonensis).

• Interior least tern (Sterna antillarum).

• Kretschmarr Cave mold beetle (Texamaurops reddelli).

• Madla Cave meshweaver (Cicurina madla).

• Northern aplomado falcon (Falco femoralis).

• Peck's Cave amphipod (Stygobromus (=stygonectes) pecki).

• Piping plover (Charadrius melodus).

• Red-cockaded woodpecker (Picoides borealis).

• Robber Baron Cave meshweaver (Cicurina baronia).

• San Marcos gambusia (Gambusia georgei).

• San Marcos salamander (Eurycea nana).

• Southwestern willow flycatcher (Empidonax traillii extimus).

• Texas blind salamander (Eurycea rathbuni).

• Tooth Cave ground beetle (Rhadine persephone).

• Tooth Cave pseudoscorpion (Tartarocreagris texana).

• Tooth Cave spider (Neoleptoneta (=Leptoneta) myopica).

Permit TE—48908B

Applicant: Jeremiah McKinney, Cibolo, Texas.

Applicant requests a new permit for research and recovery purposes to conduct presence/absence surveys of Houston toad (Bufo houstonensis) within Texas.

Permit TE—822908

Applicant: Caesar Kleberg Wildlife Research Institute, Kingsville, Texas.

Applicant requests a renewal to a current permit for research and recovery purposes for the following activities within Texas: To live-capture; chemically immobilize; collect samples (blood, hair, fecal, tissue, and parasite); take body measurements; attach radio, satellite, or global positioning system (GPS) collars; tag with passive integrated transponders (PIT tags); monitor and assess recovery from sedation; and release unharmed up to 40 ocelots (Leopardus pardalis) and up to 10 jaguarundis (Herpailurus yagouaroundi) per year by all authorized permittees combined. They also request to be authorized to monitor ocelots and jaguarundis using remotely triggered cameras, hair snares, and other noninvasive methods and to collect samples (i.e., hair) for genetic and other analyses using those methods and to salvage and transport, collect tissue samples from, and store specimens and parts of dead ocelots and jaguarundis.

Permit TE—040341

Applicant: William Larsen, Cherokee, Texas.

Applicant requests a renewal to a current permit for research and recovery purposes to conduct presence/absence surveys of the following species in Texas:

• Bee Creek Cave harvestman (Texella reddelli).

• Bone Cave harvestman (Texella reyesi).

• Braken Bat Cave meshweaver (Cicurina venii).

• Coffin Cave mold beetle (Batrisodes texanus).

• Cokendolpher Cave harvestman (Texella cokendolpheri).

• Government Canyon Bat Cave meshweaver (Cicurina vespera).

• Government Canyon Bat Cave spider (Neoleptoneta microps).

• Ground beetle (Unnamed) (Rhadine exilis).

• Ground beetle (Unnamed) (Rhadine infernalis).

• Helotes mold beetle (Batrisodes venyivi).

• Kretschmarr Cave mold beetle (Texamaurops reddelli).

• Madla Cave meshweaver (Cicurina madla).

• Peck's Cave amphipod (Stygobromus (=stygonectes) pecki).

• Robber Baron Cave meshweaver (Cicurina baronia).

• Texas blind salamander (Eurycea rathbuni).

• Tooth Cave ground beetle (Rhadine persephone).

• Tooth Cave pseudoscorpion (Tartarocreagris texana).

• Tooth Cave spider (Neoleptoneta (=Leptoneta) myopica).

Permit TE—082496

Applicant: Joint Base San Antonio, San Antonio, Texas.

Applicant requests a renewal to a current permit for research and recovery purposes to conduct presence/absence surveys of the following species within Texas:

• Bee Creek Cave harvestman (Texella reddelli).

• Black-capped vireo (Vireo atricapilla).

• Bone Cave harvestman (Texella reyesi).

• Braken Bat Cave meshweaver (Cicurina venii).

• Coffin Cave mold beetle (Batrisodes texanus).

• Cokendolpher Cave harvestman (Texella cokendolpheri).

• Golden-cheeked warbler (Dendroica chrysoparia).

• Government Canyon Bat Cave meshweaver (Cicurina vespera).

• Government Canyon Bat Cave spider (Neoleptoneta microps).

• Ground beetle (Unnamed) (Rhadine exilis).

• Ground beetle (Unnamed) (Rhadine infernalis).

• Helotes mold beetle (Batrisodes venyivi).

• Kretschmarr Cave mold beetle (Texamaurops reddelli).

• Madla Cave meshweaver (Cicurina madla).

• Robber Baron Cave meshweaver (Cicurina baronia).

• Texas blind salamander (Eurycea rathbuni).

• Tooth Cave ground beetle (Rhadine persephone).

• Tooth Cave pseudoscorpion (Tartarocreagris texana).

• Tooth Cave spider (Neoleptoneta (=Leptoneta) myopica).

Permit TE—004439

Applicant: Albuquerque BioPark, Albuquerque, New Mexico.

Applicant requests an amendment current permit for research and recovery purposes to conduct husbandry and holding of Zuni bluehead sucker (Catostomus discobolus yarrowi) at the BioPark in New Mexico.

Permit TE—209033

Applicant: Gene Wilde, Lubbock, Texas.

Applicant requests an amendment to a current permit for research and recovery purposes to collect 7,500 smalleye (Notropis buccula) and 7,500 sharpnose (Notropis oxyrhynchus) shiners from the wild each year for the life of the permit for genetic research within Texas.

Permit TE—676811

Applicant: U.S. Fish and Wildlife Service−mdash; Region 2, Albuquerque, New Mexico.

Applicant requests an amendment to a current permit for research and recovery purposes to conduct presence/absence surveys of smalleye shiner (Notropis buccula), sharpnose shiner (Notropis oxyrhynchus), and Zuni bluehead sucker (Catostomus discobolus yarrowi); and to capture, radio collar, draw blood, and release Gray wolf (Canis lupus) within Region 2 of the U.S. Fish and Wildlife Service.

Permit TE—43777A

Applicant: Sea Life U.S., LLC., Grapevine, Texas.

Applicant requests a renewal to a current permit for research and recovery purposes to conduct husbandry and holding of green (Chelonia mydas), Kemps ridley (Lepidochelys kempii), and hawksbill (Eretmochelys imbricata) turtles within the facility in Texas.

Permit TE—053085

Applicant: U.S. Bureau of Reclamation, Boulder City, Nevada.

Applicant requests a renewal to a current permit for research and recovery purposes to conduct presence/absence surveys of the following species within Arizona, California, and Nevada:

• Bonytail chub (Gila elegans).

• Razorback sucker (Xyrauchen texanus).

• Southwestern willow flycatcher (Empidonax traillii extimus).

• Yuma clapper rail (Rallus longirostris yumanensis).

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.)

Dated: October 22, 2014.
Joy E. Nicholopoulos,
Acting Regional Director, Southwest Region, U.S. Fish and Wildlife Service.

[FR Doc. 2014-25835 Filed 10-29-14; 8:45 am]

BILLING CODE 4310-55-P